DEPARTMENT OF COMMERCE

Bureau of Industry and Security

15 CFR Part 744

[Docket No. 220303-0067]

RIN 0694-AI73

Further Imposition of Sanctions Against Russia With the Addition of Certain Entities to the Entity List

AGENCY: Bureau of Industry and Security, Commerce.

ACTION: Final rule.

SUMMARY: In response to the Russian Federation's (Russia's) further invasion of Ukraine on February 24, 2022, the Department of Commerce is amending the Export Administration Regulations (EAR) by adding 91 new entities to the Entity List under the destinations of Belize, Estonia, Kazakhstan, Latvia, Malta, Russia, Singapore, Slovakia, Spain, and United Kingdom with this final rule. These 91 entities have been determined by the U.S. Government to be acting contrary to the foreign policy or national security interests of the United States.

DATES: This rule is effective March 3, 2022

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

I. Background

Russia Sanctions

In response to Russia's further invasion of Ukraine, the Bureau of Industry and Security (BIS) has imposed stringent and expansive sanctions on Russia under the EAR (15 CFR parts 730-774). Russia's invasion of Ukraine flagrantly violates international law, is contrary to U.S. national security and foreign policy interests, and undermines global order, peace, and security, and therefore necessitates the imposition of these sanctions.

Effective February 24, 2022, BIS imposed sanctions on Russia under the EAR as part of a final rule, Implementation of Sanctions Against Russia Under the Export Administration Regulations (EAR) (“Russia Sanctions Rule”).¹ Among other stringent licensing requirements and review policies, the Russia Sanctions Rule implemented measures to limit the ability of Russian `military end users' under the EAR to support Russia's military activities. Specifically, BIS moved forty-five Russian entities from the Military End-User (MEU) List in supplement no. 7 to part 744 of the EAR to the Entity List in supplement no. 4 to part 744. In addition, BIS added two new Russian entities to the Entity List for acquiring items in support of nuclear activities.

¹ 87 FR 12226 (March 3, 2022).

In addition, effective March 2, 2022, BIS imposed sanctions on Belarus under the EAR in a final rule, Implementation of Sanctions Against Belarus (“Belarus Sanctions Rule”). Among other stringent licensing requirements and review policies, the Belarus Sanctions Rule implemented measures to limit the ability of Belarus' `military end users' under the EAR to support Belarus' or Russia's military activities. Specifically, BIS added two entities in Belarus to the Entity List in supplement no. 4 to part 744.

With this final rule, in response to Russia's destabilizing conduct in Ukraine, BIS implements additional restrictions related to Russia by adding 91 entities to the Entity List under the destinations of Belize, Estonia, Kazakhstan, Latvia, Malta, Russia, Singapore, Slovakia, Spain, and United Kingdom. Specific information on the licensing requirements imposed on these entities is detailed below. The entities listed below have been involved in, contributed to, or otherwise supported the Russian security services, military and defense sectors, and military and/or defense research and development efforts.

II. Entity List Decisions

Entity List

The Entity List identifies entities for which there is reasonable cause to believe, based on specific and articulable facts, that the entities have been involved, are involved, or pose a significant risk of being or becoming involved in activities contrary to the national security or foreign policy interests of the United States. The EAR imposes additional license requirements on, and limit the availability of most license exceptions for, exports, reexports, and transfers (in-country) to listed entities. The license review policy for each listed entity is identified in the “License Review Policy” column on the Entity List, and the impact on the availability of license exceptions is described in the relevant Federal Register document adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Changes in This Rule

This final rule implements the decision of the ERC to add 91 entities under 96 entries to the Entity List on the basis of § 744.11 (License requirements that apply to entities acting contrary to the national security or foreign policy interests of the United States) of the EAR. The 96 entries added to the Entity List consist of 1 entry in Belize, 3 entries in Estonia, 1 entry in Kazakhstan, 1 entry in Latvia, 2 entries in Malta, 81 entries in Russia, 1 entry in Singapore, 1 entry in Slovakia, 2 entries in Spain, and 3 entries in United Kingdom. Entities with addresses under multiple countries receive multiple entries on the Entity List, accounting for the difference between the number of entities and entries added by this rule.

The ERC reviewed § 744.11(b) (Criteria for revising the Entity List) in making the determination to add these 91 entities to the Entity List. Under that paragraph, persons for whom there is reasonable cause to believe, based on specific and articulable facts, have been involved, are involved, or pose a significant risk of being or becoming involved in, activities that are contrary to the national security or foreign policy interests of the United States and those acting on behalf of such persons may be added to the Entity List. The ERC has determined that all 91 entities have been involved, are involved in, or pose a significant risk of becoming involved in, activities that are contrary to the national security or foreign policy interests of the United States and prior review is required, via the imposition of a license requirement for exports, reexports, or transfers (in-country), of all items subject to the EAR. Specifically, all of these entities have been involved in, contributed to, or otherwise supported the Russian security services, military and defense sectors, and military and/or defense research and development efforts.

For the 91 entities added to the Entity List in this final rule under § 744.11(b), BIS imposes a license requirement that applies to all items subject to the EAR. For 86 of the 91 entities, BIS will review license applications under a policy of denial. For five entities (Elara; JSC Element; Radioavtomatika; Russian Space Systems; and Scientific Research Institute NII Submikron), BIS will review license applications involving all items subject to the EAR under a policy of denial, except on a case-by-case basis for U.S. Government supported space programs. In addition, no license exceptions are available for exports, reexports, or transfers (in-country) to the entities being added to the Entity List in this rule.

For the reasons described above, this final rule adds the following 91 entities under 96 entries to the Entity List and includes, where appropriate, aliases:

Belize

• Ecotherm-Cryo Limited.

Estonia

• ADIMIR OU;

• Eastline Technologies OU; and

• Valery Kosmachov.

Kazakhstan

• Serniya Engineering.

Latvia

• Ecotherm-Cryo Limited.

Malta

• Djeco Group LP; and

• Malberg Limited.

Russia

• Amur Shipbuilding Factory PJSC;

• AO Center of Shipbuilding and Ship Repairing JSC;

• AO Kronshtadt;

• Avant Space LLC;

• Baikal Electronics;

• Center for Technological Competencies in Radiophtonics;

• Central Research and Development Institute Tsiklon;

• Crocus Nano Electronics;

• Dalzavod Ship-Repair Center;

• Elara;

• Electronic Computing and Information Systems;

• ELPROM;

• Engineering Center Ltd.;

• Forss Technology Ltd.;

• Integral SPB;

• JSC Element;

• JSC Pella-Mash;

• JSC Shipyard Vympel;

• Kranark LLC;

• Lev Anatolyevich Yershov (Ershov);

• LLC Center;

• MCST Lebedev;

• Miass Machine-Building Factory;

• Microelectronic Research and Development Center Novosibirsk;

• MPI VOLNA;

• N.A. Dollezhal Order of Lenin Research and Design Institute of Power Engineering;

• Nerpa Shipyard;

• NM-Tekh;

• Novorossiysk Shipyard JSC;

• NPO Electronic Systems;

• NPP Istok;

• NTC Metrotek;

• OAO GosNIIkhimanalit;

• OAO Svetlovskoye Predpriyatiye Era;

• OJSC TSRY;

• OOO Elkomtekh (Elkomtex);

• OOO Planar

• OOO Sertal;

• Photon Pro LLC

• PJSC Zvezda;

• Production Association Strela;

• Radioavtomatika;

• Research Center Module;

• Robin Trade Limited;

• R.Ye. Alekseyev Central Design Bureau for Hydrofoil Ships;

• Rubin Sever Design Bureau;

• Russian Space Systems;

• Rybinsk Shipyard Engineering;

• Scientific Research Institute of Applied Chemistry;

• Scientific-Research Institute of Electronics;

• Scientific Research Institute of Hypersonic Systems;

• Scientific Research Institute NII Submikron;

• Sergey IONOV;

• Serniya Engineering;

• Severnaya Verf Shipbuilding Factory;

• Ship Maintenance Center Zvezdochka;

• State Governmental Scientific Testing Area of Aircraft Systems (GkNIPAS);

• State Machine Building Design Bureau Raduga Bereznya;

• State Scientific Center AO GNTs RF—FEI A.I. Leypunskiy Physico-Energy Institute;

• State Scientific Research Institute of Machine Building Bakhirev (GosNIImash);

• Tomsk Microwave and Photonic Integrated Circuits and Modules Collective Design Center;

• UAB Pella-Fjord;

• United Shipbuilding Corporation JSC “35th Shipyard”;

• United Shipbuilding Corporation JSC “Astrakhan Shipyard”;

• United Shipbuilding Corporation JSC “Aysberg Central Design Bureau”;

• United Shipbuilding Corporation JSC “Baltic Shipbuilding Factory”;

• United Shipbuilding Corporation JSC “Krasnoye Sormovo Plant OJSC”;

• United Shipbuilding Corporation JSC “SC “Zvyozdochka”;

• United Shipbuilding Corporation “Pribaltic Shipbuilding Factory Yantar”;

• United Shipbuilding Corporation “Scientific Research Design Technological Bureau Onega”;

• United Shipbuilding Corporation “Sredne-Nevsky Shipyard”;

• Ural Scientific Research Institute for Composite Materials;

• Urals Project Design Bureau Detal;

• Vega Pilot Plant;

• Vertikal LLC;

• Vladislav Vladimirovich Fedorenko;

• VTK Ltd;

• Yaroslavl Shipbuilding Factory;

• ZAO Elmiks-VS;

• ZAO Sparta;

• ZAO Svyaz Inzhiniring; and

Singapore

• Alexsong PTE LTD.

Slovakia

• Incoff Aerospace S.R.O.

Spain

• Invention Bridge SL; and

• Majory LLP.

United Kingdom

• Djeco Group LP;

• Majory LLP; and

• Photon Pro LLC.

Additional Note

BIS notes that this rule is meant to serve as a response to Russian aggression against Ukraine. This rule does include entities in several allied countries, including member of the European Union and North Atlantic Treaty Organization, but is not an action against the countries in which the entities are located or registered or the governments of those countries. This rule only serves as an action against those entities listed, which have assisted the Russian military, contrary to U.S. foreign and national security policy interests.

Savings Clause

Shipments of items removed from eligibility for a License Exception or export, reexport, or transfer (in-country) without a license (NLR) as a result of this regulatory action that were enroute aboard a carrier to a port of export, reexport, or transfer (in-country), on March 3, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classification, and carries a burden estimate of 29.6 minutes for a manual or electronic submission for a total burden estimate of 31,835 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

2. Supplement No. 4 to part 744 is amended:

a. Under BELIZE by adding an entry in alphabetical order for “Ecotherm-Cryo Limited”;

b. Under ESTONIA by adding, in alphabetical order, entries for “Admir OU,” “Eastline Technologies OU,” and “Valery Kosmachov”;

c. Under KAZAKHSTAN by adding an entry in alphabetical order for “Serniya Engineering”;

d. By adding a heading for LATVIA in alphabetical order and under the heading adding an entry for “Ecotherm-Cryo Limited”;

e. Under MALTA by adding, in alphabetical order, entries for “Djeco Group LP” and “Malberg Limited”;

f. Under RUSSIA by adding in alphabetical order entries for “Amur Shipbuilding Factory PJSC,” “AO Center of Shipbuilding and Ship Repairing JSC,” “AO Kronshtadt,” “Avant-Space LLC,” “Baikal Electronics,” “Center for Technological Competencies in Radiophtonics,” “Central Research and Development Institute Tsiklon,” “Crocus Nano Electronics,” “Dalzavod Ship-Repair Center,” “Elara,” “Electronic Computing and Information Systems,” “ELPROM,” “Engineering Center Ltd.,” “Forss Technology Ltd.,” “Integral SPB,” “JSC Element,” “JSC Pella-Mash,” “JSC Shipyard Vympel,” “Kranark LLC,” “Lev Anatolyevich Yershov (Ershov),” “LLC Center,” “MCST Lebedev,” “Miass Machine-Building Factory,” “Microelectronic Research and Development Center Novosibirsk,” “MPI VOLNA,” “N.A. Dollezhal Order of Lenin Research and Design Institute of Power Engineering,” “Nerpa Shipyard,” “NM-Tekh,” “Novorossiysk Shipyard JSC,” “NPO Electronic Systems,” “NPP Istok,” “NTC Metrotek,” “OAO GosNIIkhimanalit,” “OAO Svetlovskoye Predpriyatiye Era,” “OJSC TSRY,” “OOO Elkomtekh (Elkomtex),” “OOO Planar,” “OOO Sertal,” “Photon Pro LLP,” “PJSC Zvezda,” “Production Association Strela,” “Radioavtomatika,” “Research Center Module,” “Robin Trade Limited,” “R.Ye. Alekseyev Central Design Bureau for Hydrofoil Ships,” “Rubin Sever Design Bureau,” “Russian Space Systems (RKS),” “Rybinsk Shipyard Engineering,” “Scientific Research Institute of Applied Chemistry,” “Scientific-Research Institute of Electronics (NIIET),” “Scientific Research Institute of Hypersonic Systems,” “Scientific Research Institute NII Submikron,” “Sergey IONOV,” “Serniya Engineering,” “Severnaya Verf Shipbuilding Factory,” “Ship Maintenance Center Zvezdochka,” “State Governmental Scientific Testing Area of Aircraft Systems (GkNIPAS),” “State Machine Building Design Bureau Raduga, Bereznyak,” “State Scientific Center AO GNTs RF—FEI A.I. Leypunskiy Physico-Energy Institute,” “State Scientific Research Institute of Machine Building Bakhirev (GosNIImash),” “Tomsk Microwave and Photonic Integrated Circuits and Modules Collective Design Center,” “UAB Pella-Fjord “United Shipbuilding Corporation JSC “35th Shipyard”,” “United Shipbuilding Corporation JSC “Astrakhan Shipyard”,” “United Shipbuilding Corporation JSC “Aysberg Central Design Bureau”,” “United Shipbuilding Corporation JSC “Baltic Shipbuilding Factory”,” “United Shipbuilding Corporation JSC “Krasnoye Sormovo Plant OJSC”,” “United Shipbuilding Corporation JSC “SC “Zvyozdochka”,” “United Shipbuilding Corporation “Pribaltic Shipbuilding Factory Yantar”,” “United Shipbuilding Corporation “Scientific Research Design Technological Bureau Onega”,” “United Shipbuilding Corporation “Sredne-Nevsky Shipyard”, “Ural Scientific Research Institute for Composite Materials,” “Urals Project Design Bureau Detal,” “Vega Pilot Plant,” “Vertikal LLC,” “Vladislav Vladimirovich Fedorenko,” “VTK Ltd,” “Yaroslavl Shipbuilding Factory,” “ZAO Elmiks-VS,” “ZAO Sparta,” and “ZAO Svyaz Inzhiniring”; and

g. Under SINGAPORE by adding an entry in alphabetical order for “Alexsong PTE LTD”;

h. By adding a heading for SLOVAKIA in alphabetical order and under the heading adding an entry for “Incoff Aerospace S.R.O.”;

i. By adding a heading for SPAIN in alphabetical order and under the heading adding, in alphabetical order, entries for “Invention Bridge SL” and “Majory LLP”; and

j. Under UNITED KINGDOM by adding in alphabetical order entries for “Djeco Group LP,” “Majory LLP,” and “Photon Pro LLP”.

The additions read as follows:

Supplement No. 4 to Part 744—Entity List

* * * * *

Country | Entity | License requirement | License review policy | Federal Register citation
* * * * * * *
BELIZE | Ecotherm-Cryo Limited, 1½ Miles Northern Highway, Belize City, Belize. (See alternate address under Latvia). | For all items subject to the EAR. (See § 744.11 of the EAR). | Policy of denial | 87 FR [INSERT FR PAGE NUMBER] 3/9/2022.
| * * * * * *
* * * * * * *
ESTONIA | Adimir OU, Akadeemia Tee 21E, 12618 Tallinn, Estonia; and Peterburi Tee 47-210, 11415 Tallinn, Estonia; and Vabaohukooli tee 76-A9 Tallinn, 12015 Estonia. | For all items subject to the EAR. (See § 744.11 of the EAR). | Policy of denial | 87 FR [INSERT FR PAGE NUMBER] 3/9/2022.
| * * * * * *
| Eastline Technologies OU, Akadeemia Tee 21E, 12618 Tallinn, Estonia; and Peterburi Tee 47-210, 11415 Tallinn, Estonia; and Vabaohukooli tee 76-A9 Tallinn, 12015 Estonia. | For all items subject to the EAR. (See § 744.11 of the EAR). | Policy of denial | 87 FR [INSERT FR PAGE NUMBER] 3/9/2022.
| Valery Kosmachov Akadeemia Tee 21E, 12618 Tallinn, Estonia; and Peterburi Tee 47-210, 11415 Tallinn, Estonia; and Vabaohukooli tee 76-A9 Tallinn, 12015 Estonia. | For all items subject to the EAR. (See § 744.11 of the EAR). | Policy of denial | 87 FR [INSERT FR PAGE NUMBER] 3/9/2022.
| * * * * * *
* * * * * * *
KAZAKHSTAN | * * * * * *
| Serniya Engineering, a.k.a., the following one alias: —Sernia Engineering. | For all items subject to the EAR. (See § 744.11 of the EAR). | Policy of denial | 87 FR [INSERT FR PAGE NUMBER] 3/9/2022.
| 164 Islam Karimov Street, Offic 311, Almaty, 050007, Kazakhstan. (See alternate address under Russia).
| * * * * * *
LATVIA | Ecotherm-Cryo Limited, 31B Riga, Latvia 1004. (See alternate address under Belize). | For all items subject to the EAR. (See § 744.11 of the EAR). | Policy of denial | 87 FR [INSERT FR PAGE NUMBER] 3/9/2022.
* * * * * * *
MALTA | Djeco Group LP, a.k.a., the following one alias: —Djeco Group Holding LTD. | For all items subject to the EAR. (See § 744.11 of the EAR). | Policy of denial | 87 FR [INSERT FR PAGE NUMBER] 3/9/2022.
| Phoenix Business Centre, The Penthouse Old Railway Track, Santa Venera, Malta. (See alternate address under United Kingdom).
| * * * * * *
| Malberg Limited, a.k.a., the following one alias: —Malberg LTD. | For all items subject to the EAR. (See § 744.11 of the EAR). | Policy of denial | 87 FR [INSERT FR PAGE NUMBER] 3/9/2022.
| C1, Depiro Point, Depiro Street, Sliema, SLM 2033 Malta; and Forrest Street St Julians STJ 2033MT-X, X STJ 20133 Malta; and Phoenix Business Centre, The Penthouse, Old Railway Track, Santa Venera, Malta; and 48 Triq Stella Maris Sliema Slm 1765 Mt, Malta.
| * * * * * *
* * * * * * *
RUSSIA | * * * * * *
| Amur Shipbuilding Factory PJSC, a.k.a., the following two aliases: —PAO Amurskiy Sudostroitelnyy Zavod; and —PJSC ASZ. | For all items subject to the EAR. (See § 744.11 of the EAR). | Policy of denial | 87 FR [INSERT FR PAGE NUMBER] 3/9/2022.
| 1 Alleya Truda Street, Komsomolsk-na-Amure, Khabarovskiy Krai, Russia, 681000.
| * * * * * *
| AO Center of Shipbuilding and Ship Repairing JSC, a.k.a., the following one alias: —AO Tsentr Tekhnologii Sudostroyeniya i Sudoremonta. | For all items subject to the EAR. (See § 744.11 of the EAR). | Policy of denial | 87 FR [INSERT FR PAGE NUMBER] 3/9/2022.
| 7 Promyshlennaya Street, St. Petersburg, Russia, 198095.
| AO Kronshtadt, a.k.a., the following four aliases: —Kronshtadt Group; —Kronshtadt; —Kronde Group; and —ZAO Kronshtadt. | For all items subject to the EAR. (See § 744.11 of the EAR). | Policy of denial | 87 FR [INSERT FR PAGE NUMBER] 3/9/2022.
| 18 Stromynka Street, Moscow, Russia, 107076; and In. 3-Ya V.O., D. 62 litera A Pom 162, St. Petersburg, Russia, 199178; and 54 Maly Prospekt Vasilyevskogo Ostrova, Building 4P, St. Petersburg, Russia, 199178.
| * * * * * *
| Avant-Space LLC, a.k.a., the following four aliases: —AVANT-SPEIS; —Avant Space Systems; —Avant Space Propulsion Systems; and —OOO Avant-Spejs. | For all items subject to the EAR. (See § 744.11 of the EAR). | Policy of denial | 87 FR [INSERT FR PAGE NUMBER] 3/9/2022.
| 4/7 Lugovaya Street, Skolkovo Innovation Center, Moscow, Russia, 143026; and 42 Bolshoy Bulvar, Skolkovo, Moscow, Russia, 143026; and 12 Presnenskaya Embankment, Moscow, Russia, 123112.
| * * * * * *
| Baikal Electronics, Building B2, Territory of 26 km of the highway “Baltia,” BC “Riga Land,” Krasnogorsk District, Moscow, Russia, 143421. | For all items subject to the EAR. (See § 744.11 of the EAR). | Policy of denial | 87 FR [INSERT FR PAGE NUMBER] 3/9/2022.
| * * * * * *
| Center for Technological Competencies in Radiophtonics, a.k.a., the following four aliases: —JCS CheAZ; —TsTK; —TsTK CheAZ; and —Cheboksary Electrical Equipment Plant. | For all items subject to the EAR. (See § 744.11 of the EAR). | Policy of denial | 87 FR [INSERT FR PAGE NUMBER] 3/9/2022.
| 10 8th of March, Building 1, Moscow, Russia, 127083.
| * * * * * *
| Central Research and Development Institute Tsiklon, a.k.a., the following four aliases: —Cyclone TsNII; —CRI Cyclone; —Central Research Institute Cyclone JSC; and —Intercyclone LLC. | For all items subject to the EAR. (See § 744.11 of the EAR). | Policy of denial | 87 FR [INSERT FR PAGE NUMBER] 3/9/2022.
| 77 Shelkovskoe Highway, Moscow, Russia, 107207.
| * * * * * *
| Crocus Nano Electronics, 42 Volgoradski Avenue, Fifth Floor, Moscow, Russia, 109316. | For all items subject to the EAR. (See § 744.11 of the EAR). | Policy of denial | 87 FR [INSERT FR PAGE NUMBER] 3/9/2022.
| * * * * * *
| Dalzavod Ship-Repair Center, a.k.a., the following two aliases: —OAO Tsentr Sudoremonta Dalzavod; and —JSC CSD. | For all items subject to the EAR. (See § 744.11 of the EAR). | Policy of denial | 87 FR [INSERT FR PAGE NUMBER] 3/9/2022.
| 2 Dalzavodskaya Street, Vladivostok, Russia, 690001.
| * * * * * *
| Elara, a.k.a., the following one alias: —Joint Stock Company Scientific and Production Complex Elara named after G.A. Illienko. | For all items subject to the EAR. (See § 744.11 of the EAR). | Policy of denial; Case-by-case basis for U.S. Government supported space programs | 87 FR [INSERT FR PAGE NUMBER] 3/9/2022.
| 40 Moskovsky Avenue, Chuvash Republic, 428017; and 7 Obraztsova Street, Moscow, Russia, 428020.
| Electronic Computing and Information Systems (ELVIS), a.k.a. the following two aliases: —Joint Stock Company Research and Development Center ELVEES; and —Scientific Production Center Elvis. | For all items subject to the EAR. (See § 744.11 of the EAR). | Policy of denial | 87 FR [INSERT FR PAGE NUMBER] 3/9/2022.
| Thoroughfare No. 4922, House 4, Building 2, Zelenograd, Russia.
| * * * * * *
| ELPROM, Marshala Govorova Str. 40, Lit. A, Office 34, St. Petersburg 198095, Russia. | For all items subject to the EAR. (See § 744.11 of the EAR). | Policy of denial | 87 FR [INSERT FR PAGE NUMBER] 3/9/2022.
| * * * * * *
| Engineering Center Ltd., a.k.a., the following three aliases: —Certified Engineering Center, Ltd.; —LCEC; and —EC. | For all items subject to the EAR. (See § 744.11 of the EAR). | Policy of denial | 87 FR [INSERT FR PAGE NUMBER] 3/9/2022.
| 4 Gabrichevsky Street, Room 124, Moscow, Russia, 125367; and 43 Volokolamskoe Highway, Room 121, Moscow, Russia, 125424.
| * * * * * *
| Forss Technology Ltd., a.k.a., the following four aliases: —FT Ltd; —Forss Marine; —OOO Smart Marin; and —OOO Forss Teknologii. | For all items subject to the EAR. (See § 744.11 of the EAR). | Policy of denial | 87 FR [INSERT FR PAGE NUMBER] 3/9/2022.
| 51 Magnitogorskaya Street, D. Letter E Office 210, Saint Petersburg, Russia, 195027; and 44 Bronnitskaya Street, Letter A, Room 1H, Saint Petersburg, Russia, 190013.
| * * * * * *
| Integral SPB, 21 Irinovski Avenue, Building 1, Saint Petersburg, Russia, 195279. | For all items subject to the EAR. (See § 744.11 of the EAR). | Policy of denial | 87 FR [INSERT FR PAGE NUMBER] 3/9/2022.
| * * * * * *
| JSC Element, 12 Presnenskaya Embankment, Office 2024, Moscow, Russia, 123112. | For all items subject to the EAR. (See § 744.11 of the EAR). | Policy of denial; Case-by-case basis for U.S. Government supported space programs | 87 FR [INSERT FR PAGE NUMBER] 3/9/2022.
| * * * * * *
| JSC Pella-Mash, 4 Tsentralnaya Street, Kirovski District, Otradnoe, Leningradskaya Oblast, Russia, 187330. | For all items subject to the EAR. (See § 744.11 of the EAR). | Policy of denial | 87 FR [INSERT FR PAGE NUMBER] 3/9/2022.
| * * * * * *
| JSC Shipyard Vympel, a.k.a., the following two aliases: —Aktsionernoe Obshchestvo “Sudostroitelny Zavod “Vympel”; and —Sudostroitelny Zavod Vympel, Aktsionernoe Obshchestvo. | For all items subject to the EAR. (See § 744.11 of the EAR). | Policy of denial | 87 FR [INSERT FR PAGE NUMBER] 3/9/2022.
| 4 Novaya Street, Rybinsk, Rybinski District, Yaroslavskaya, Russia, 152912.
| * * * * * *
| Kranark LLC, 14 Professora Kachalova Street, Letter A, Saint Petersburg, Russia, 192019. | For all items subject to the EAR. (See § 744.11 of the EAR). | Policy of denial | 87 FR [INSERT FR PAGE NUMBER] 3/9/2022.
| * * * * * *
| Lev Anatolyevich Yershov (Ershov), Ul. Tsvetochnaya, d.25, k.3, St. Petersburg, Russia. | For all items subject to the EAR. (See § 744.11 of the EAR). | Policy of denial | 87 FR [INSERT FR PAGE NUMBER] 3/9/2022.
| * * * * * *
| LLC Center, 21 Yablochkova Street, Building 3, Floor 3, Premise VIII, Room 1L, Moscow, Russia, 127322. | For all items subject to the EAR. (See § 744.11) of the EAR). | Policy of denial | 87 FR [INSERT FR PAGE NUMBER] 3/9/2022.
| * * * * * *
| MCST Lebedev, a.k.a., the following three aliases: —Moscow Center of SPARC Technologies; —AO MTSST; and —ZAO Elbrus-MCST. | For all items subject to the EAR. (See § 744.11 of the EAR). | Policy of denial | 87 FR [INSERT FR PAGE NUMBER] 3/9/2022.
| 1 Nagatinskaya Street, Moscow, 117105, Russia; and 51 Leninski Prospekt, Moscow, 119049, Russia.
| * * * * * *
| Miass Machine-Building Factory, a.k.a., the following two aliases: —AO Miasskiy mashinostroitelnyy zavod; and —JSC MMZ. | For all items subject to the EAR. (See § 744.11 of the EAR). | Policy of denial | 87 FR [INSERT FR PAGE NUMBER] 3/9/2022.
| 1 Turgoyakskoye Highway, Miass, Chelyabinksaya Oblast, Russia, 456300.
| * * * * * *
| Microelectronic Research and Development Center Novosibirsk, a.k.a. the following two aliases: —KTIPM; and —IFP KTIPM SO RAN. | For all items subject to the EAR. (See § 744.11 of the EAR). | Policy of denial | 87 FR [INSERT FR PAGE NUMBER] 3/9/2022.
| 8 Nikolayeva Street, Novosibirsk, Russia,630090; and 2/1 Akademika Lavrentyeva Avenue, Novosibirsk, Russia, 630090.
| * * * * * *
| MPI VOLNA, a.k.a., the following two aliases: —Mashpriborintorg-Volna; and —Mashpriborintorg Wave. | For all items subject to the EAR. (See § 744.11of the EAR). | Policy of denial | 87 FR [INSERT FR PAGE NUMBER] 3/9/2022.
| 4A Plekhanova Street, Unit XII, Floor 2, Moscow, Russia, 111123; and 29 Entuziastov Highway, Balashikha, Moskovskaya Oblast, Russia, 143907.
| * * * * * *
| N.A. Dollezhal Order of Lenin Research and Design Institute of Power Engineering, a.k.a., the following two aliases: —JSC Order of Lenin Research and Design Institute of Energy Engineering named after N. A. Dollezhal; and —JSC NIKIET. | For all items subject to the EAR. (See § 744.11 of the EAR). | Policy of denial | 87 FR [INSERT FR PAGE NUMBER] 3/9/2022.
| 2/8 Krasnosel'skaya Street, Moscow, Russia, 107140.
| * * * * * *
| Nerpa Shipyard, a.k.a., the following one alias: —SRZ Nerpa. | For all items subject to the EAR. (See § 744.11 of the EAR). | Policy of denial | 87 FR [INSERT FR PAGE NUMBER] 3/9/2022.
| Snezhnogorsk, Murmansk Region, Russia, 184682.
| * * * * * *
| NM-Tekh, 4A Solnechnaya, House 6, Floor 1, Apartment XII, Office 4, Zelenograd, Moscow Oblast, Russia. | For all items subject to the EAR. (See § 744.11 of the EAR). | Policy of denial | 87 FR [INSERT FR PAGE NUMBER] 3/9/2022.
| * * * * * *
| Novorossiysk Shipyard JSC, a.k.a., the following two aliases: —OAO Novosrossiyskiy sudoremontnyy zavod; and —JSC NSRZ. | For all items subject to the EAR. (See § 744.11 of the EAR). | Policy of denial | 87 FR [INSERT FR PAGE NUMBER] 3/9/2022.
| Sukhumskoye Highway, Novorossiysk, Krasnodarskiy Krai, Russia, 353902.
| * * * * * *
| NPO Electronic Systems, a.k.a., the following three aliases: —NPO Electric Systems; —NPO Elektronnye Sistemy; and —NPOS ES. | For all items subject to the EAR. (See § 744.11 of the EAR). | Policy of denial | 87 FR [INSERT FR PAGE NUMBER] 3/9/2022.
| 6 Kievskaya Street, St. Petersburg, Russia, 196084.
| NPP Istok, 19 Zavodskaya, Chernukha, Arzamasski District, Nizhegorodskaya Oblast, Russia, 607210; and 4A Okruzhnoi Thoroughfare, Fryazino, Moscovskaya Oblast, Russia, 141190; and 2A Vokzalnaya, Fryazino, Moskovaskaya Oblast, Russia, 141190. | For all items subject to the EAR. (See § 744.11 of the EAR). | Policy of denial | 87 FR [INSERT FR PAGE NUMBER] 3/9/2022.
| * * * * * *
| NTC Metrotek, a.k.a., the following four aliases: —Metrotek; —Metrotek Inzhiniring; —Nauchno-Tekhnicheskee Tsentr Metrotek; and —NTTS Metrotek. | For all items subject to the EAR. (See § 744.11 of the EAR). | Policy of denial | 87 FR [INSERT FR PAGE NUMBER] 3/9/2022.
| 21 Yablochkova Street, Moscow, Russia, 127322; and 27 Kolomyazhsky Avenue, 4th Floor, St. Petersburg, Russia, 197341.
| * * * * * *
| OAO GosNIIkhimanalit, a.k.a., the following one alias: —State Research Chemical-Analytical Institute. | For all items subject to the EAR. (See § 744.11 of the EAR). | Policy of denial | 87 FR [INSERT FR PAGE NUMBER] 3/9/2022.
| 17 Bumazhnaya Street, St. Petersburg, Russia, 190020.
| * * * * * *
| OAO Svetlovskoye Predpriyatiye Era, a.k.a., the following two aliases: —JSC Svetlovskoye Predpriyatiye Era; and —SP Era. | For all items subject to the EAR. (See § 744.11 of the EAR). | Policy of denial | 87 FR [INSERT FR PAGE NUMBER] 3/9/2022.
| 1 L. Chaikinoi St., Svetly, Kaliningradskaya obl., 238340, Russia.
| * * * * * *
| OJSC TSRY, a.k.a., the following one alias: —OJSC Tuapse Ship Repair Plant. 11 Maksima Gorkogo Street, Tuapsinski District, Tuapse, Krasnodarski Krai, Russia, 352800. | For all items subject to the EAR. (See § 744.11 of the EAR). | Policy of denial | 87 FR [INSERT FR PAGE NUMBER] 3/9/2022.
| * * * * * *
| OOO Elkomtekh (Elkomtex), Shkapina Street, 32/34 D, St. Petersburg, Russia 198095. | For all items subject to the EAR. (See § 744.11 of the EAR). | Policy of denial | 87 FR [INSERT FR PAGE NUMBER] 3/9/2022.
| * * * * * *
| OOO Planar, Office 1, Dom 76, Likhvintseva St., Izhevsk, Republic of Udmurt, Russia 426034; and 8th March Street, Dom 16, Izhevsk, Republic of Udmurt, Russia 426034; and Dom 19, Bazisnaya St., Izhevsk, Republic of Udmurt, Russia 426034. | For all items subject to the EAR. (See § 744.11 of the EAR). | Policy of denial | 87 FR [INSERT FR PAGE NUMBER] 3/9/2022.
| OOO Sertal, a.k.a., the following three aliases: —Sernia; —Serniya; and —Sertal LLC. | For all items subject to the EAR. (See § 744.11 of the EAR). | Policy of denial | 87 FR [INSERT FR PAGE NUMBER] 3/9/2022.
| 21 Yablochkova Street, Building 3, Floor 3, Apartment VIII, Room 11, Moscow, Russia, 27322.
| * * * * * *
| Photon Pro LLP, a.k.a., the following one alias: —Photon Pro. | For all items subject to the EAR. (See § 744.11 of the EAR). | Policy of denial | 87 FR [INSERT FR PAGE NUMBER] 3/9/2022.
| 3 Lodygina Street, Saransk, Mordovia Republic, Russia, 430034. B443 (See alternative address under United Kingdom)
| * * * * * *
| PJSC Zvezda, 123 Babushkina Street, St. Petersburg, Russia, 192012. | For all items subject to the EAR. (See § 744.11 of the EAR). | Policy of denial | 87 FR [INSERT FR PAGE NUMBER] 3/9/2022.
| * * * * * *
| Production Association Strela, 26 Shevchenko Street, Orenburg, Russia, 460005. | For all items subject to the EAR. (See § 744.11 of the EAR). | Policy of denial | 87 FR [INSERT FR PAGE NUMBER] 3/9/2022.
| * * * * * *
| Radioavtomatika, a.k.a., the following one alias: —Testprecision LLC. 33 Gagarina, Reutov, Moscow Oblast, Russia, 143966; and 1 Komsomolskaya, Podolsk, Moscow Oblast, Russia, 142100; and 5 B Maliy Avenue P.S., St. Petersburg, Russia, 194044; and 2A Severnaya, Vladimir, Vladimirskaya Oblast, Russia, 600007; and 11 Zolotorozhski Val, Moscow, Russia, 111033. | For all items subject to the EAR. (See § 744.11 of the EAR). | Policy of denial; Case-by-case basis for U.S. Government supported space programs | 87 FR [INSERT FR PAGE NUMBER] 3/9/2022.
| * * * * * *
| Research Center Module, a.k.a., the following two aliases: —NTTs Science and Technology Research Center Module; and —CJSC STC Module. | For all items subject to the EAR. (See § 744.11 of the EAR). | Policy of denial | 87 FR [INSERT FR PAGE NUMBER] 3/9/2022.
| 3 8 Marta 4th Street, Moscow, Russia, 123557.
| * * * * * *
| Robin Trade Limited, a.k.a., the following one alias: —Robin Tried. | For all items subject to the EAR. (See § 744.11 of the EAR). | Policy of denial | 87 FR [INSERT FR PAGE NUMBER] 3/9/2022.
| 21 Yablochkova Street, Building 3, Room VII, Moscow, Russia, 127322.
| * * * * * *
| R.Ye. Alekseyev Central Design Bureau for Hydrofoil Ships, a.k.a., the following two aliases: —OAO Tsentralnoye Konstructorskoye byuro po sudam na podvodnqkh krylyakh imeni R.E. Alekseyeva; and —JSC Alexeev's Hydrofoil Design Bureau. | For all items subject to the EAR. (See § 744.11 of the EAR). | Policy of denial | 87 FR [INSERT FR PAGE NUMBER] 3/9/2022.
| 51 Svobody Street, Nizhnyy Novgorod, Russia, 603003; and 5 Alekseeva Street, Kuznetsovo Village, Chkalovskiy District, Nizhny Novgorod Oblast, Russia, 606549; and 29 Alpiyskiy Line, St. Petersburg, Russia, 192286.
| Rubin Sever Design Bureau, a.k.a., the following three aliases: —Rubin Sever AO; —Konstruktorskoe Byuro Rubin-Sever, PAO; and —Aktsionernoe Obshchestvo “Konstruktorskoe Byuro “Rubin-Sever“. | For all items subject to the EAR. (See § 744.11 of the EAR). | Policy of denial | 87 FR [INSERT FR PAGE NUMBER] 3/9/2022.
| 58 Arkhangelskoe Highway, Severodvinsk, Arkhangelskaya Oblast, Russia, 164500.
| * * * * * *
| Russian Space Systems (RKS), 222 Sosnovaya, Tsiolkovski, Amurskaya Oblast, Russia, 676470; and 53G Aviamotornaya, Moscow, Russia, 111024; and 51 Dekabristov, Moscow, Russia, 127490. | For all items subject to the EAR. (See § 744.11 of the EAR). | Policy of denial; Case-by-case basis for U.S. Government supported space programs | 87 FR [INSERT FR PAGE NUMBER] 3/9/2022.
| * * * * * *
| Rybinsk Shipyard Engineering, a.k.a., the following one alias: —ZAO Rybinskaya verf-inzhenering. | For all items subject to the EAR. (See § 744.11 of the EAR). | Policy of denial | 87 FR [INSERT FR PAGE NUMBER] 3/9/2022.
| 1A Sudostroitelnaya Street, Sudoverf Village, Rybinskiy Districy, Yaroslavskaya Oblast, Russia, 152978.
| * * * * * *
| Scientific Research Institute of Applied Chemistry, a.k.a., the following two aliases: —Federal Research and Production Center Research Institute of Applied Chemistry; and —NIIPH. | For all items subject to the EAR. (See § 744.11 of the EAR). | Policy of denial | 87 FR [INSERT FR PAGE NUMBER] 3/9/2022.
| 3 Academician Silina Street, Sergiev Posad, Moscow Oblast, Russia, 141313.
| * * * * * *
| Scientific-Research Institute of Electronics (NIIET), a.k.a., the following two aliases: —AO Scientific Research Institute of Electronics; and —AO Scientific Research. | For all items subject to the EAR. (See § 744.11 of the EAR). | Policy of denial | 87 FR [INSERT FR PAGE NUMBER] 3/9/2022.
| 119A Prospekt Leninski, Voronezh, Voronezhskaya Oblast, Russia, 394033; and 5 Starykh Bolshevikov, Voronezh, Voronezhskaya Oblast, Russia, 394033.
| Scientific Research Institute of Hypersonic Systems, a.k.a., the following one alias: —Hypersonic System Research Institute of holding company Leninetz. | For all items subject to the EAR. (See § 744.11 of the EAR). | Policy of denial | 87 FR [INSERT FR PAGE NUMBER] 3/9/2022.
| 212 Mosckovsky Avenue, St. Petersburg, Russia, 196066.
| Scientific Research Institute NII Submikron, 5 Street 2, Proskpekt Georgievski, Zelenograd, Moscow, Russia, 124498. | For all items subject to the EAR. (See § 744.11 of the EAR). | Policy of denial; Case-by-case basis for U.S. Government supported space programs | 87 FR [INSERT FR PAGE NUMBER] 3/9/2022.
| * * * * * *
| Sergey IONOV, Marshala Govorova Str. 40, Lit. A, Office 34, St. Petersburg 198095, Russia. | For all items subject to the EAR. (See § 744.11 of the EAR). | Policy of denial | 87 FR [INSERT FR PAGE NUMBER] 3/9/2022.
| * * * * * *
| Serniya Engineering, a.k.a., the following one alias: —Sernia Engineering. | For all items subject to the EAR. (See § 744.11 of the EAR). | Policy of denial | 87 FR [INSERT FR PAGE NUMBER] 3/9/2022.
| 57A Vavilova Street, Floor 2, Apartment 211, Room 211-3, Moscow, Russia, 117292; and 20 Ogorodnyy Driveway, Building 27, Floor 6, Office 8, Moscow, Russia, 127322; and 167B Rodionova Street, Nizhniy Novgorod, Russia; and 270 Ligovsky Avenue, Section B, Office 2201, Saint Petersburg, Russia, 196084; and 12 Sibirskiy Tract, Building 1A, Yekaterinburg, Russia. (See alternative address under Kazakhstan).
| Severnaya Verf Shipbuilding Factory, a.k.a., the following one alias: —OJSC Shipbuilding Plant Severnaya Verf. | For all items subject to the EAR. (See § 744.11 of the EAR). | Policy of denial | 87 FR [INSERT FR PAGE NUMBER] 3/9/2022.
| 6 Korabelnaya Street, St. Petersburg, Russia, 198096.
| * * * * * *
| Ship Maintenance Center Zvezdochka, a.k.a., the following three aliases: —Zvezdochka Ship Repair Center JSC; —Zvezdochka CS; and —FL 5 Suderemontny Zavod AO TSS Zvezdochka. | For all items subject to the EAR. (See § 744.11 of the EAR). | Policy of denial | 87 FR [INSERT FR PAGE NUMBER] 3/9/2022.
| 12 Mashinostroiteley Passage, Severodvinsk, Arkhangelsk Region, Russia, 164500.
| * * * * * *
| State Governmental Scientific Testing Area of Aircraft Systems (GkNIPAS), a.k.a., the following one alias: —Federal State Enterprise State Research and Testing Ground for Aviation Systems named after L.K. Safronov. | For all items subject to the EAR. (See § 744.11 of the EAR). | Policy of denial | 87 FR [INSERT FR PAGE NUMBER] 3/9/2022.
| 59 Lesnaya Street, 1st Microdistrict, Beloozersky, Voskresensk, Moscow Oblast, Russia, 140250.
| State Machine Building Design Bureau Raduga, Bereznyak, 2A Zhuckovskiy Street, Dubna, Moscow Oblast, Russia, 14980. | For all items subject to the EAR. (See § 744.11 of the EAR). | Policy of denial | 87 FR [INSERT FR PAGE NUMBER] 3/9/2022.
| State Scientific Center AO GNTs RF—FEI A.I. Leypunskiy Physico-Energy Institute, a.k.a., the following two aliases: —Leypunsky Institute of Physics and Power Engineering; and —IPPE. | For all items subject to the EAR. (See § 744.11 of the EAR). | Policy of denial | 87 FR [INSERT FR PAGE NUMBER] 3/9/2022.
| 1 Bondarenko Square, Obninsk, Kaluga Oblast, Russia, 249020.
| State Scientific Research Institute of Machine Building Bakhirev (GosNIImash), a.k.a., the following three aliases: —JSC Scientific Research Institute for Mechanical Engineering; —State Research Institute of Mechanical Engineering named after. V.V. Bakhireva; and —GosNIImash. 11A Sverdlova Thoroughfare, Dzerzhinsk, Russia, 606002. | For all items subject to the EAR. (See § 744.11 of the EAR). | Policy of denial | 87 FR [INSERT FR PAGE NUMBER] 3/9/2022.
| * * * * * *
| Tomsk Microwave and Photonic Integrated Circuits and Modules Collective Design Center, a.k.a., the following one alias: —TUSUR-Electronica Research Company. | For all items subject to the EAR. (See § 744.11 of the EAR). | Policy of denial | 87 FR [INSERT FR PAGE NUMBER] 3/9/2022.
| 147 Krasnoarmeyskay Street, Office 101, Tomsk, Russia 634045; and 19 Gvardeyskoy Divizii Street, Office 64, 15, Tomsk, Russia, 634045.
| * * * * * *
| UAB Pella-Fjord, 4 Tsentralnaya Street, Kirovski District, Otradnoe, Leningradskaya Oblast, Russia, 187330. | For all items subject to the EAR. (See § 744.11 of the EAR). | Policy of denial | 87 FR [INSERT FR PAGE NUMBER] 3/9/2022.
| * * * * * *
| United Shipbuilding Corporation JSC “35th Shipyard”, a.k.a., the following one alias: —Filial “35 sudoremontny zavod” Aktsionernogo obshchestva “Tsentr sudoremonta” “Zvezdochka”. | For all items subject to the EAR. (See § 744.11 of the EAR). | Policy of denial | 87 FR [INSERT FR PAGE NUMBER] 3/9/2022.
| 100 Admirala Flota Lobova, Murmansk, Russia, 183017; and 100 A Street, Lobova, Russia, 183017.
| United Shipbuilding Corporation JSC “Astrakhan Shipyard”, a.k.a., the following one alias: —Strahansky Shipyard. | For all items subject to the EAR. (See § 744.11 of the EAR). | Policy of denial | 87 FR [INSERT FR PAGE NUMBER] 3/9/2022.
| 37 Atarbekova, Astrakhan 414009, Russia.
| United Shipbuilding Corporation JSC “Aysberg Central Design Building”, a.k.a., the following one alias: —Iceberg Central Design Bureau. | For all items subject to the EAR. (See § 744.11 of the EAR). | Policy of denial | 87 FR [INSERT FR PAGE NUMBER] 3/9/2022.
| 36 Bolshoi Avenue V. I., St. Petersburg, Russia, 199034.
| United Shipbuilding Corporation JSC “Baltic Shipbuilding Factory”, a.k.a., the following two aliases: —JSC Baltiski Zavod; and —Baltic Shipyard. | For all items subject to the EAR. (See § 744.11 of the EAR). | Policy of denial | 87 FR [INSERT FR PAGE NUMBER] 3/9/2022.
| 16 Kosaya Liniya Street, St. Petersburg, Russia, 199106.
| United Shipbuilding Corporation JSC “Krasnoye Sormovo Plant OJSC”, a.k.a., the following one alias: —Zavod Krasnoe Sormovo, PAO. | For all items subject to the EAR. (See § 744.11 of the EAR). | Policy of denial | 87 FR [INSERT FR PAGE NUMBER] 3/9/2022.
| 1 Barrikad Street, Nizhni Novgorod, Nizhegorodskaya Oblast, Russia, 603003.
| United Shipbuilding Corporation JSC “SC “Zvyozdochka”, a.k.a., the following one alias: —Filial “Astrakhanski Sudoremontny Zavod” Aktsionernogo Obshchestva “Tsentr sudoremonta “Zvezdochka”. | For all items subject to the EAR. (See § 744.11 of the EAR). | Policy of denial | 87 FR [INSERT FR PAGE NUMBER] 3/9/2022.
| 37 Atarbekova, Astrakhan, Astrakhanskaya Oblast, Russia, 414009.
| United Shipbuilding Corporation “Pribaltic Shipbuilding Factory Yantar”, a.k.a., the following two aliases: —Aktsionernoe Obshchestvo “Pribaltiski Sudostroitelny Zavod “Yantar”; and —Pribaltiski Sudostroitelny Zavod Yantar, Aktsionernoe Obshchestvo. | For all items subject to the EAR. (See § 744.11 of the EAR). | Policy of denial | 87 FR [INSERT FR PAGE NUMBER] 3/9/2022.
| 1 Guskova Place, Kaliningrad, Kaliningradskaya Oblast, Russia, 236005.
| United Shipbuilding Corporation “Scientific Research Design Technological Bureau Onega”, a.k.a., the following two aliases: —Nauchno-issledovatelskoe proektno-teknnologicheskoe byuro Onega PJSC; and —SC NIPTB Onega. | For all items subject to the EAR. (See § 744.11 of the EAR). | Policy of denial | 87 FR [INSERT FR PAGE NUMBER] 3/9/2022.
| 12 Mashinostroitelei Thoroughfare, Severodvinsk, Arkhangelskaya Oblast, Russia,164509.
| United Shipbuilding Corporation “Sredne-Nevsky Shipyard”, a.k.a., the following four aliases: —JSC SNSZ; —Aktcionernoe Obshestvo “Sredne-Nevsky Sudostroyelny Plant”; —Middle Neva Shipbuilding Plant; and —Federal State Unitary Enterprise “Sredne-Nevsky Shipbuilding Plant”. | For all items subject to the EAR. (See § 744.11 of the EAR). | Policy of denial | 87 FR [INSERT FR PAGE NUMBER] 3/9/2022.
| 10 Zavodskaya Street, Pontonny District, Saint Petersburg, Russia, 196643.
| Ural Scientific Research Institute for Composite Materials, 57 Novozvyaginskaya Street, Perm, Russia, 614014. | For all items subject to the EAR. (See § 744.11 of the EAR). | Policy of denial | 87 FR [INSERT FR PAGE NUMBER] 3/9/2022.
| Urals Project Design Bureau Detal, 8 Pironskaya Street, Kamensk-Uralskiy, Sverdlovsk Oblast, Russia, 623409. | For all items subject to the EAR. (See § 744.11 of the EAR). | Policy of denial | 87 FR [INSERT FR PAGE NUMBER] 3/9/2022.
| * * * * * *
| Vega Pilot Plant, a.k.a., the following two aliases: —OZ Vega—Filial AO TSS Zvezdochka; and —Experimental Plant Vega. | For all items subject to the EAR. (See § 744.11 of the EAR). | Policy of denial | 87 FR [INSERT FR PAGE NUMBER] 3/9/2022.
| 73 Lenina Street, Borovski District, Borovsk, Kaluga Oblast, Russia, 249010.
| Vertikal LLC, —148 Moskovski Avenue, Letter D, Apartment 8, Saint Petersburg, Russia, 196084. | For all items subject to the EAR. (See § 744.11 of the EAR). | Policy of denial | 87 FR [INSERT FR PAGE NUMBER] 3/9/2022.
| * * * * * *
| Vladislav Vladimirovich Fedorenko, Ul. Artillyeriskaya, d.1, lit.A, POM26N, St. Petersburg, Russia. | For all items subject to the EAR. (See § 744.11of the EAR). | Policy of denial | 87 FR [INSERT FR PAGE NUMBER] 3/9/2022.
| * * * * * *
| VTK Ltd, a.k.a., the following three aliases: —Your Fuel Company; —BTK; and —OOO VTK. | For all items subject to the EAR. (See § 744.11 of the EAR). | Policy of denial | 87 FR [INSERT FR PAGE NUMBER] 3/9/2022.
| 14 Professora Kachalova Street, Letter A, Saint Petersburg, Russia, 192019.
| * * * * * *
| Yaroslavl Shipbuilding Factory, a.k.a., the following one alias: —PAO Yaroslavskiy sudostroitelnyy zavod. | For all items subject to the EAR. (See § 744.11 of the EAR). | Policy of denial | 87 FR [INSERT FR PAGE NUMBER] 3/9/2022.
| 1 Korabelnaya Street, Yaroslavl, Russia, 150006.
| * * * * * *
| ZAO Elmiks-VS, Ul. Artillyeriskaya, d.1, lit.A, POM26N, St. Petersburg, Russia 191014. | For all items subject to the EAR. (See § 744.11 of the EAR). | Policy of denial | 87 FR [INSERT FR PAGE NUMBER] 3/9/2022.
| ZAO Sparta, Ul. Mokhovaya, d.18, li.A, Kv.7N, St. Petersburg, Russia 191028. | For all items subject to the EAR. (See § 744.11 of the EAR). | Policy of denial | 87 FR [INSERT FR PAGE NUMBER] 3/9/2022.
| ZAO Svyaz Inzhiniring, a.k.a., the following one alias: —Svyaz Engineering. | For all items subject to the EAR. (See § 744.11 of the EAR). | Policy of denial | 87 FR [INSERT FR PAGE NUMBER] 3/9/2022.
| 6th Radialnaya Street, Office 9, Moscow, Russia, 115404.
| * * * * * *
* * * * * * *
SINGAPORE | * * * * * *
| Alexsong PTE LTD, a.k.a., the following one entity: —Champion Way Pte Ltd. | For all items subject to the EAR. (See § 744.11 of the EAR). | Policy of denial | 87 FR [INSERT FR PAGE NUMBER] 3/9/2022.
| OG Albert Complex, Albert Street 60 #10-04, City-Beach Road, 189969 Singapore.
| * * * * * *
SLOVAKIA | Incoff Aerospace S.R.O., a.k.a., the following one alias: —Incoff Group | For all items subject to the EAR. (See § 744.11 of the EAR). | Policy of denial | 87 FR [INSERT FR PAGE NUMBER] 3/9/2022.
| Polianky 3327/5 Bratislava—Mestska Cast Dubravka; Bratislavsky, 84101, Slovakia.
* * * * * * *
SPAIN | Invention Bridge SL, C/Provenza 281-2-9, 08006, Barcelona, Spain. | For all items subject to the EAR. (See § 744.11 of the EAR). | Policy of denial | 87 FR [INSERT FR PAGE NUMBER] 3/9/2022.
| Majory LLP, Avinguda De Rhode 255, Roses (Girona), ES CT, 17480, Spain. (See alternate address under United Kingdom). | For all items subject to the EAR. (See § 744.11 of the EAR). | Policy of denial | 87 FR [INSERT FR PAGE NUMBER] 3/9/2022.
* * * * * * *
UNITED KINGDOM | * * * * * *
| Djeco Group LP, a.k.a., the following one alias: —Djeco Group Holding LTD. | For all items subject to the EAR. (See § 744.11 of the EAR). | Policy of denial | 87 FR [INSERT FR PAGE NUMBER] 3/9/2022.
| 38 Thistle Street, Edinburgh, EH2 1EN, Scotland, United Kingdom. (See alternate address under Malta).
| * * * * * *
| Majory LLP, 25 City Road Spaces, City Road, Epworth House, Office 320, London, United Kingdom EC1Y 1AA. (See alternate address under Spain) | For all items subject to the EAR. (See § 744.11 of the EAR). | Policy of denial | 87 FR [INSERT FR PAGE NUMBER] 3/9/2022.
| * * * * * *
| Photon Pro LLP, a.k.a., the following one alias: —Photon Pro. | For all items subject to the EAR. (See § 744.11 of the EAR). | Policy of denial | 87 FR [INSERT FR PAGE NUMBER] 3/9/2022.
| 25 City Road Spaces, City Road, Epworth House, Office 320, London, United Kingdom ECIY 1AA. (See alternate address under Russia).
| * * * * * *
* * * * * * *

* * * * *

Thea D. Rozman Kendler,
Assistant Secretary for Export Administration.

[FR Doc. 2022-04925 Filed 3-3-22; 5:00 pm]

BILLING CODE 3510-33-P